DEPARTMENT OF LABOR

Employment and Training Administration

[TA-W-71,443]

Applied Materials; Boise, ID; Notice of Termination of Investigation

Pursuant to Section 221 of the Trade Act of 1974, as amended, an investigation was initiated in response to a petition filed June 29, 2009 on behalf of workers of Applied Materials, Boise, Idaho.

The petitioning group of workers is covered by an active certification, (TA-W-71,296) which expires on March 4, 2012. Therefore, further investigation in this case would serve no purpose and the investigation has been terminated.

Signed at Washington, DC this 4th day of March, 2010.
Michael W. Jaffe,
Certifying Officer, Division of Trade Adjustment Assistance.

[FR Doc. 2010-6920 Filed 3-29-10; 8:45 am]

BILLING CODE 4510-FN-P